NUCLEAR REGULATORY COMMISSION

[NRC-2025-1765]

Monthly Notice; Applications and Amendments to Facility Operating Licenses and Combined Licenses Involving No Significant Hazards Considerations

AGENCY: Nuclear Regulatory Commission.

ACTION: Monthly notice.

SUMMARY: Pursuant to section 189a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person.

DATES: Comments must be filed by December 26, 2025. A request for a hearing or petitions for leave to intervene must be filed by January 26, 2026. This monthly notice includes all amendments issued, or proposed to be issued, from September 12, 2025, to October 9, 2025. The last monthly notice was published on September 30, 2025.

ADDRESSES: You may submit comments by any of the following methods (unless this document describes a different method for submitting comments on a specific subject); however, the NRC encourages electronic comment submission through the Federal rulemaking website.

• Federal rulemaking website: Go to https://www.regulations.gov and search for Docket ID NRC-2025-1765. Address questions about Docket IDs in Regulations.gov to Bridget Curran; telephone: 301-415-1003; email: Bridget.Curran@nrc.gov. For technical questions, contact the individual(s) listed in the For Further Information Contact section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Angela Baxter, Office of Nuclear Reactor Regulation, U.S. Nuclear Regulatory Commission, Washington, DC 20555-0001; telephone: 301-415-8209; email: Angela.Baxter@nrc.gov.

SUPPLEMENTARY INFORMATION:

I. Obtaining Information and Submitting Comments

A. Obtaining Information

Please refer to Docket ID NRC-2025-1765, facility name, unit number(s), docket number(s), application date, and subject when contacting the NRC about the availability of information for this action. You may obtain publicly available information related to this action by any of the following methods:

• Federal Rulemaking Website: Go to https://www.regulations.gov and search for Docket ID NRC-2025-1765.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2025-1765, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this notice, the Commission finds that the licensees' analyses provided, consistent with section 50.91 of title 10 of the Code of Federal Regulations (10 CFR) “Notice for public comment; State consultation,” are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any person (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. If a petition is filed, the Commission or a presiding officer will rule on the petition and, if appropriate, a notice of a hearing will be issued.

Petitions must be filed no later than 60 days from the date of publication of this notice in accordance with the filing instructions in the “Electronic Submissions (E-Filing)” section of this document. Petitions and motions for leave to file new or amended contentions that are filed after the deadline will not be entertained absent a determination by the presiding officer that the filing demonstrates good cause by satisfying the three factors in 10 CFR 2.309(c)(1)(i) through (iii).

If a hearing is requested, and the Commission has not made a final determination on the issue of no significant hazards consideration, the Commission will make a final determination on the issue of no significant hazards consideration, which will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or designated agency thereof, may submit a petition to the Commission to participate as a party under 10 CFR 2.309(h) no later than 60 days from the date of publication of this notice. Alternatively, a State, local governmental body, Federally recognized Indian Tribe, or agency thereof may participate as a non-party under 10 CFR 2.315(c).

For information about filing a petition and about participation by a person not a party under 10 CFR 2.315, see ADAMS Accession No. ML20340A053 (https://adamswebsearch2.nrc.gov/webSearch2/main.jsp?AccessionNumber=ML20340A053) and on the NRC's public website at https://www.nrc.gov/about-nrc/regulatory/adjudicatory/hearing.html#participate.

B. Electronic Submissions (E-Filing)

All documents filed in NRC adjudicatory proceedings, including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056), and on the NRC's public website (https://www.nrc.gov/site-help/e-submittals.html).

To comply with the procedural requirements of E-Filing, at least 10 days prior to the filing deadline, the participant should contact the Office of the Secretary by email at Hearing.Docket@nrc.gov, or by telephone at 301-415-1677, to: (1) request a digital identification (ID) certificate which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket is created, the participant must submit adjudicatory documents in the Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed in order to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless otherwise excluded pursuant to an order of the presiding officer. If you do not have an NRC-issued digital ID certificate as previously described, click “cancel” when the link requests certificates and you will be automatically directed to the NRC's electronic hearing docket where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the nuclear power plant names, docket numbers, dates of application, ADAMS accession numbers, and locations in the application of the licensees' proposed NSHC determination. For further details with respect to these license amendment applications, see the applications for amendment, publicly available portions of which are available for public inspection in ADAMS. For additional direction on accessing information related to this document, see the “Obtaining Information and Submitting Comments” section of this document.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Requests
Constellation Energy Generation, LLC; Dresden Nuclear Power Station, Units 2 and 3; Grundy County, IL
Docket Nos | 50-237, 50-249.
Application date | August 6, 2025.
ADAMS Accession No | ML25218A256.
Location in Application of NSHC | Pages 3-5 of Attachment 1.
Brief Description of Amendments | The proposed amendments would relocate Dresden Nuclear Power Station, Units 2 and 3, Technical Specification 3.3.7.2, “Mechanical Vacuum Pump Trip Instrumentation,” to an appropriate licensee-controlled document.
Proposed Determination | NSHC.
Name of Attorney for Licensee, Mailing Address | Jason Zorn, Associate General Counsel, Constellation Energy Generation, LLC, 4300 Winfield Road, Warrenville, IL 60555.
NRC Project Manager, Telephone Number | Surinder Arora, 301-415-1421.
Constellation Energy Generation, LLC; Quad Cities Nuclear Power Station, Units 1 and 2; Rock Island County, IL
Docket Nos | 50-254, 50-265.
Application date | August 6, 2025.
ADAMS Accession No | ML25218A263.
Location in Application of NSHC | Pages 3-5 of Attachment 1.
Brief Description of Amendments | The proposed amendments would relocate Quad Cities Nuclear Power Station, Units 1 and 2, Technical Specification 3.3.7.2, “Mechanical Vacuum Pump Trip Instrumentation,” to an appropriate licensee-controlled document.
Proposed Determination | NSHC.
Name of Attorney for Licensee, Mailing Address | Jason Zorn, Associate General Counsel, Constellation Energy Generation, LLC, 4300 Winfield Road, Warrenville, IL 60555.
NRC Project Manager, Telephone Number | Surinder Arora, 301-415-1421.
Duke Energy Carolinas, LLC; Oconee Nuclear Station, Units 1, 2, and 3; Oconee County, SC
Docket Nos | 50-269, 50-270, 50-287.
Application date | August 19, 2025.
ADAMS Accession No | ML25232A073.
Location in Application of NSHC | Pages 118-121 of the Enclosure.
Brief Description of Amendments | The proposed amendments would increase the existing Type A integrated leakage rate test program test interval from 10 years to 15 years, adopt an extension of the containment isolation valve leakage rate testing frequency for Type C leakage rate testing of selected components, adopt the use of American National Standards Institute/American Nuclear Society (ANSI/ANS) 56.8-2020, “Containment System Leakage Testing Requirements,” and adopt a more conservative allowable test interval extension of 9 months for Type A, Type B and Type C leakage rate tests in accordance with NEI 94-01, Revision 3-A, “Industry Guideline for Implementing Performance-Based Option of 10 CFR Part 50, Appendix J.”
Proposed Determination | NSHC.
Name of Attorney for Licensee, Mailing Address | Tracey Mitchell LeRoy, Deputy General Counsel, Duke Energy Corporation, 525 S Tryon Street, Charlotte, NC 28202.
NRC Project Manager, Telephone Number | Shawn Williams, 301-415-1009.
Nebraska Public Power District; Cooper Nuclear Station; Nemaha County, NE
Docket No | 50-298.
Application date | July 17, 2025.
ADAMS Accession No | ML25202A106.
Location in Application of NSHC | Pages 19-21 of Attachment 1.
Brief Description of Amendment | The proposed amendment would revise Cooper Nuclear Station Technical Specification (TS) 3.8.2, “AC [Alternating Current] Sources—Shutdown,” and TS 3.8.3, “Diesel Fuel Oil, Lube Oil, and Starting Air,” to allow the fuel oil storage tanks to be out of service for up to 14 days for the purpose of performing the required cleaning and inspection of the tanks. An alternate fuel oil storage system will be utilized during the tank inspection evolution, as necessary, to supply the required diesel generator day tank. These TS changes would be applicable during the 2026 Refuel Outage 34 while in Mode 5.
Proposed Determination | NSHC.
Name of Attorney for Licensee, Mailing Address | John C. McClure, Executive Vice President External Affairs and General Counsel Nebraska Public Power District, P.O. Box 499, Columbus, NE 68601.
NRC Project Manager, Telephone Number | Thomas Byrd, 301-415-3719.
Pacific Gas and Electric Company; Diablo Canyon Nuclear Power Plant, Units 1 and 2; San Luis Obispo County, CA
Docket Nos | 50-275, 50-323.
Application date | August 27, 2025.
ADAMS Accession No | ML25239B075.
Location in Application of NSHC | Pages 4-6 of the Enclosure.
Brief Description of Amendments | The proposed amendments would adopt emergency action level scheme pursuant to Nuclear Energy Institute (NEI) 99-01, Revision 7, “Development of Emergency Action Levels for Non-Passive Reactors.”
Proposed Determination | NSHC.
Name of Attorney for Licensee, Mailing Address | Jennifer Post, Esq., Pacific Gas and Electric Co., 77 Beale Street, Room 3065, Mail Code B30A, San Francisco, CA 94105.
NRC Project Manager, Telephone Number | Samson Lee, 301-415-3168.
Tennessee Valley Authority; Sequoyah Nuclear Plant, Units 1 and 2; Hamilton County, TN; Tennessee Valley Authority; Watts Bar Nuclear Plant, Units 1 and 2; Rhea County, TN
Docket Nos | 50-327, 50-328, 50-390, 50-391.
Application date | August 19, 2025.
ADAMS Accession No | ML25231A300.
Location in Application of NSHC | Pages E1-E3 of the Enclosure.
Brief Description of Amendments | The proposed amendments would revise Sequoyah Nuclear Plant, Units 1 and 2, and Watts Bar Nuclear Plant, Units 1 and 2, technical specifications to eliminate the periodic surveillance requirement to verify that all required diesel generators achieve rated frequency and voltage within the specified time period when started simultaneously, consistent with Technical Specifications Task Force (TSTF) Traveler TSTF-599-A, Revision 1, “Eliminate Periodic Surveillance Test of Simultaneous Start of Redundant Diesel Generators.”
Proposed Determination | NSHC.
Name of Attorney for Licensee, Mailing Address | Rebecca Tolene (Acting), Executive VP and General Counsel Tennessee Valley Authority, 400 West Summit Hill Drive, WT 6A, Knoxville, TN 37902.
NRC Project Manager, Telephone Number | Kimberly Green, 301-415-1627.
Tennessee Valley Authority; Watts Bar Nuclear Plant, Units 1 and 2; Rhea County, TN
Docket Nos | 50-390, 50-391.
Application date | August 25, 2025.
ADAMS Accession No | ML25237A197.
Location in Application of NSHC | TSTF-26: pages E6-E7; TSTF-27: pages E10-E11; TSTF-87: pages E14-E15; TSTF-96: pages E1-E18; TSTF-116: pages E21-E22; TSTF-197: pages E26-E27; TSTF-233: pages E31-E32; TSTF-263: pages E35-E36; TSTF-265: page E39; TSTF-272: pages E42-E43; TSTF-280: pages E46-E47; TSTF-284: pages E50-E51; TSTF-286: pages E56-E57; TSTF-349, TSTF-361, and TSTF-438: pages E61-E63; TSTF-352: pages E66-E68; TSTF-20: pages E70-E71; TSTF-247: pages E73-E75; TSTF-309: pages E77-E78.
Brief Description of Amendments | The proposed amendments would revise various technical specifications (TS) within the Watts Bar Nuclear Plant, Units 1 and 2, TS Sections 3.4 and 3.9 by adopting the following Technical Specifications Task Force (TSTF) Travelers:
| • TSTF-26-A, Revision 0—“Revise the Action for Minimum Temperature for Criticality to match the Applicability.”
| • TSTF-27-A, Revision 3—“Revise SR [surveillance requirement] frequency for Minimum Temperature for Criticality.”
| • TSTF-87-A, Revision 2—“Revise `RTBs [reactor trip breakers] open' & `CRDM [control rod drive mechanism] de-energized' Actions to `incapable of rod withdrawal.' ”
| • TSTF-96-A, Revision 1—“Delete the initial performance of the boron concentration measurement with no source range detectors.”
| • TSTF-116-A, Revision 2—“RCS [reactor coolant system] Inventory Balance SR: Steady State Clarification.”
| • TSTF-197-A, Revision 2—“Require containment closure when shutdown cooling requirements are not met.”
| • TSTF-233-A, Revision 0—“Relocate LTOP [low-temperature overpressure protection] Arming Temperature to PTLR [pressure-temperature limits report] (except for Technical Specification [TS] 1.1).”
| • TSTF-263-A, Revision 3—“Correct usage of `required' components and base ACTIONS on inoperable required equipment.”
| • TSTF-265-A, Revision 2—“Clarify 3.4 `non-operating loop' SRs.”
| • TSTF-272-A, Revision 1—“Refueling Boron Concentration Clarification.”
| • TSTF-280-A, Revision 1—“Exempt SRs on LTOP equipment not used to satisfy the LCO [limiting condition for operation].”
| • TSTF-284-A, Revision 3—“Add `Met vs. Perform' to Specification 1.4, Frequency.”
| • TSTF-286-A, Revision 2—“Define `Operations Involving Positive Reactivity Additions' ” (only TS Sections 3.4 and 3.9).
| • TSTF-349-A, Revision 1—“Add Note to LCO 3.9.5 Allowing Shutdown Cooling Loops Removal from Operation.”
| • TSTF-352-A, Revision 1—“Provide Consistent Completion Time to Reach MODE 4.”
| • TSTF-361-A, Revision 2—“Allow standby SDC/RHR/DHR [shutdown cooling/residual heat removal/decay heat removal] loop to inoperable to support testing.”
| • TSTF-438-A, Revision 0—“Clarify Exception Notes to be Consistent with the Requirement Being Excepted.”
| • TSTF-20-A, Revision 0—“Delete extraneous Action from Refueling Cavity Water Level.”
| • TSTF-247-A, Revision 0—“Provide separate condition entry for each PORV [power-operated relief valve] and block valve.”
| • TSTF-309, Revision 2—“Revise Pressurizer PORV Actions to not require cycling of block valve when closed for isolation”
Proposed Determination | NSHC.
Name of Attorney for Licensee, Mailing Address | Rebecca Tolene (Acting), Executive VP and General Counsel Tennessee Valley Authority, 400 West Summit Hill Drive, WT 6A, Knoxville, TN 37902.
NRC Project Manager, Telephone Number | Kimberly Green, 301-415-1627.
Vistra Operations Company LLC; Davis-Besse Nuclear Power Station, Unit 1; Ottawa County, OH; Vistra Operations Company LLC ; Beaver Valley Power Station, Units 1 and 2; Beaver County, PA; Vistra Operations Company LLC; Comanche Peak Nuclear Power Plant, Unit Nos. 1 and 2; Somervell County, TX; Vistra Operations Company LLC; Perry Nuclear Power Plant, Unit 1; Lake County, OH
Docket Nos | 50-334, 50-346, 50-412, 50-440, 50-445, 50-446.
Application date | July 10, 2025.
ADAMS Accession No | ML25191A246.
Location in Application of NSHC | Pages 25-27 of the Enclosure.
Brief Description of Amendments | The proposed amendments would modify technical specification Definitions and add a new “Online Monitoring Program.” The amendments propose to use online monitoring (OLM) methodology as the technical basis to switch from time-based surveillance frequency for channel calibrations to a condition-based calibration frequency based on OLM results.
Proposed Determination | NSHC.
Name of Attorney for Licensee, Mailing Address | Roland Backhaus, Senior Lead Counsel-Nuclear, Vistra Corp., 325 7th Street NW, Suite 520, Washington, DC 20004.
NRC Project Manager, Telephone Number | Robert Kuntz, 301-415-3733.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuances
Arizona Public Service Company, et al.; Palo Verde Nuclear Generating Station, Units 1, 2, and 3; Maricopa County, AZ
Docket Nos | 50-528, 50-529, 50-530.
Amendment Date | September 22, 2025.
ADAMS Accession No | ML25254A064.
Amendment Nos | 226 (Unit 1), 226 (Unit 2), and 226 (Unit 3).
Brief Description of Amendments | The amendments revised Technical Specification 5.6.5.b, “Core Operating Limits Report (COLR),” to add Topical Report WCAP-18240-P-A, “Westinghouse Thermal Design Procedure (WTDP),” to the list of referenced analytical methods for the determination of reactor core operating limits.
Public Comments Received as to Proposed NSHC (Yes/No) | No.
Florida Power & Light Company, et al.; St. Lucie Plant, Unit No. 2; St. Lucie County, FL
Docket No | 50-389.
Amendment Date | September 26, 2025.
ADAMS Accession No | ML25241A191.
Amendment No | 212.
Brief Description of Amendment | The amendment revised the St. Lucie Plant, Unit No. 2, Technical Specification (TS) 3.7.15, “Spent Fuel Pool Storage,” and TS 4.3, “Fuel Storage,” to support updated spent fuel pool and new fuel vault criticality analyses, which account for the impact of planned transition to 24-month fuel cycles on fresh and spent fuel storage.
Public Comments Received as to Proposed NSHC (Yes/No) | No.
Florida Power & Light Company; Turkey Point Nuclear Generating Unit Nos. 3 and 4; Miami-Dade County, FL
Docket Nos | 50-250, 50-251.
Amendment Date | September 25, 2025.
ADAMS Accession No | ML25266A206.
Amendment Nos | 303 (Unit 3) and 297 (Unit 4).
Brief Description of Amendments | The amendments revised the technical specifications for Turkey Point Nuclear Generating Unit Nos. 3 and 4 by removing the pressurizer heater group emergency power supply requirements.
Public Comments Received as to Proposed NSHC (Yes/No) | No.
Tennessee Valley Authority; Sequoyah Nuclear Plant, Unit 2; Hamilton County, TN
Docket No | 50-328.
Amendment Date | September 22, 2025.
ADAMS Accession No | ML25252A202.
Amendment No | 367.
Brief Description of Amendment | The amendment revised the Sequoyah Nuclear Plant (SQN), Unit 2, Technical Specification Surveillance Requirement (SR) 3.0.2, on a one-time basis, the surveillance interval for SR 3.6.12.2 (Ice Condenser—Ice Mass Weighing) and SR 3.6.12.3 (Ice Condenser Flow Passage Inspection) that are normally performed on an 18-month frequency in conjunction with a refueling outage. The amendment extended the due date for SRs 3.6.12.2 and 3.6.12.3 from August 14, 2026, and August 12, 2026, respectively, to prior to entering Mode 4 from the SQN, Unit 2, Cycle 27, Refueling Outage but no later than December 1, 2026.
Public Comments Received as to Proposed NSHC (Yes/No) | No.

Dated: November 19, 2025.
For the Nuclear Regulatory Commission.
Hipolito Gonzalez,
Acting Deputy Director, Division of Operating Reactor Licensing, Office of Nuclear Reactor Regulation.

[FR Doc. 2025-20930 Filed 11-24-25; 8:45 am]

BILLING CODE 7590-01-P